NATIONAL SCIENCE FOUNDATION

Notice of Permit Modification Received Under the Antarctic Conservation Act of 1978 (Pub. L. 95-541)

AGENCY: National Science Foundation.

ACTION: Notice of Permit Modification Request Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by January 8, 2014. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2014-006) to Eric Stangeland of Quark Expeditions on September 18, 2013 . The issued permit allows the applicant to conduct waste management activities associated with tourism activities including shore excursions, kayaking, camping, cross country skiing, ice climbing and mountaineering, and downhill skiing in the Antarctic Peninsula region. Mitigation measures are in place to reduce the risk of non-native species introductions and the risk of spills.

Now the applicant proposes a modification to his permit to allow for the conduct of waste management activities associated with conducting ice swimming and remote controlled camera copter activities.

Ice swimming activities would be sanctioned by the International Ice swimming Association. The ice swimming activity would consist of up to seven passengers completing a one mile swim between the tour ship and land (Detaille Island, Stonington Island, or Horseshoe Island). Quark staff would maintain a watch for leopard seals and killer whales and abort the swim if these animals are sighted. Swimmers would be accompanied by Quark staff in kayaks and zodiacs in case of emergency. Mitigation measures would be in place to reduce the risk of non-native species introductions and the risk of spills ashore.

The applicants wish to fly a small, battery operated, remotely controlled copter equipped with a camera to take scenic photos of the Antarctic. The copter would not be flown over concentrations of birds or mammals or over Antarctic Specially Protected Areas. Several measures would be taken to prevent against loss of the copter including painting the copter a highly visible color, only flying it when the wind is calm, flying the copter for short periods of time that last less than half a battery charge, equipping the copter with floatation so that it could be recovered from the sea, allowing only trained operators to fly the copter and ensuring that the separation between the operator and copter does not exceed its “operational range” of 500 meters. The copter itself has safety features programmed into such as returning to its take off location if connection is lost with the remote control device. The applicants are seeking a modification to their waste Permit to cover any accidental releases that may result from flying the copter.

Location: Antarctic Peninsula Region.

Dates: (That the mod would be valid) January 7, 2014-March 31, 2017.

Nadene G. Kennedy,
Polar Coordination Specialist, Division of Polar Programs.

[FR Doc. 2013-29211 Filed 12-6-13; 8:45 am]

BILLING CODE 7555-01-P